DEPARTMENT OF COMMERCE

Office of Policy and Strategic Planning

[Docket Number: 170302221-7221-01]

Impact of Federal Regulations on Domestic Manufacturing

AGENCY: Office of Policy and Strategic Planning, Department of Commerce.

ACTION: Notice; request for information (RFI).

SUMMARY: The Department of Commerce is seeking information on the impact of Federal permitting requirements on the construction and expansion of domestic manufacturing facilities and on regulations that adversely impact domestic manufacturers. As directed by President Trump's Memorandum of January 24, 2017, “Streamlining Permitting and Reducing Regulatory Burdens for Domestic Manufacturing,” the Secretary of Commerce, in coordination with the Secretaries of Agriculture and Energy, the Administrator of the Environmental Protection Agency, the Director of the Office of Management and Budget, the Administrator of the Small Business Administration, and other appropriate agency heads, is conducting outreach to stakeholders concerning the impact of Federal regulations on domestic manufacturing, and is soliciting comments from the public concerning Federal actions to streamline permitting for the construction and expansion of domestic manufacturing facilities and to reduce regulatory burdens for domestic manufacturers. Responses to this RFI—which will be posted at http://www.regulations.gov—will inform the report of the Secretary of Commerce to the President, required under the Presidential Memorandum, setting forth a plan to streamline Federal permitting processes for domestic manufacturing and to reduce regulatory burdens affecting domestic manufacturers.

DATES: Comments must be received by 5 p.m. Eastern time on March 31, 2017.

ADDRESSES: The preferred method for submission of comments is via http://www.regulations.gov (at the home page, enter DOC-2017-0001 in the “Search” box, click the “Comment Now!” icon, complete the required fields, and enter or attach your comments). Alternatively, comments may be sent: Via mail carrier to The Office of Policy and Strategic Planning, Department of Commerce, H.C. Hoover Building Rm. 5863, 1401 Constitution Ave. NW., Washington, DC. 20230. All submissions, including attachments and other supporting materials, will become part of the public record and subject to public disclosure. Sensitive personal information, such as account numbers or Social Security numbers, or names of other individuals, should not be included. Submissions will not be edited to remove any identifying or contact information. Do not submit confidential business information, or otherwise sensitive or protected information. Attachments to electronic comments will be accepted in Microsoft Word or Excel, or Adobe PDF formats only. Please do not submit additional materials. Comments containing references, studies, research, and other empirical data that are not widely published should include electronic copies of the referenced materials. All comments received in response to this RFI will be made available publicly at http://www.regulations.gov.

FOR FURTHER INFORMATION CONTACT: For questions about this notice, contact: Carter Halfman, U.S. Department of Commerce, Office of Policy and Strategic Planning, at 202-482-7466. Please direct media inquiries to the Department of Commerce Office of Public Affairs at 202-482-4883, or publicaffairs@doc.gov.

SUPPLEMENTARY INFORMATION: President Trump's Memorandum of January 24, 2017, “Streamlining Permitting and Reducing Regulatory Burdens for Domestic Manufacturing” (82 FR 8667) directs the Secretary of Commerce to conduct outreach to stakeholders concerning the impact of Federal regulations on domestic manufacturing. The Department of Commerce is soliciting comments from the public concerning Federal actions to streamline permitting and reduce regulatory burdens for domestic manufacturers. For the purposes of this effort, “domestic manufacturers” refers to private businesses located in the United States (and its territories) engaged in the mechanical, physical, or chemical transformation of materials, substances, or components into new products, consistent with the 2017 North American Industry Classification System (NAICS) definition of Sector 31-33: Manufacturing.

Responses to this RFI will inform the Secretary's report to the President which will set forth guidelines for Federal permitting and regulatory agencies to streamline Federal permitting processes for domestic manufacturing and reduce regulatory burdens affecting domestic manufacturers. The plan will be coordinated with related activities under existing laws (e.g., FAST-41 ¹) and executive actions (e.g., Executive Order 13771 on “Reducing Regulation and Controlling Regulatory Costs,” (82 FR 9339, Jan. 30, 2017)).

¹ 42 U.S.C. 4370m et seq.

Request for Information

Given the nature and importance of the Presidential Memorandum, the Secretary requests information from stakeholders about how the construction, operation, and expansion of domestic manufacturing facilities are affected by (1) the process of acquiring Federal permits required for the construction, expansion, or operation of such facilities and (2) the burdens of complying with Federal regulations for manufacturing facility construction, expansion, or operation.

Through this RFI, the Department is seeking information from stakeholders (such as manufacturers, trade associations, and other interested parties) about the Federal permitting process and regulatory burdens affecting domestic manufacturing. The Secretary seeks information that will assist the Department in developing a proposal to reduce regulatory burdens and streamline or otherwise improve the permitting process by understanding the cumulative burden of federal regulations and permits and by improving efficiency, transparency, and certainty in the process.

You may respond to any, all or none of the following questions/requests for information, and may address related topics. Please identify the questions or topic areas each of your comments addresses. These questions are directed towards domestic manufacturers and their stakeholders. Responses may include estimates. Please indicate where the response is an estimate. Respondents may organize their submissions in response to this RFI in any manner, and all responses that comply with the requirements listed in the DATES and ADDRESSES sections of this notice will be considered.

General Information:

a. NAICS code(s)

b. What do you manufacture?

c. Where are your facilities located?

d. How many employees?

e. Approximate sales revenue?

Manufacturing Permitting Process

1. How many permits from a Federal agency are required to build, expand or operate your manufacturing facilities? Which Federal agencies require permits and how long does it take to obtain them?

2. Do any of the Federal permits overlap with (or duplicate) other federal permits or those required by State or local agencies? If the answer is yes, how many permits? From which Federal agencies?

3. Briefly describe the most onerous part of your permitting process.

4. If you could make one change to the Federal permitting process applicable to your manufacturing business or facilities, what would it be? How could the permitting process be modified to better suit your needs?

5. Are there Federal, State, or local agencies that you have worked with on permitting whose practices should be widely implemented? What is it you like about those practices?

Regulatory Burden/Compliance:

1. Please list the top four regulations that you believe are most burdensome for your manufacturing business. Please identify the agency that issues each one. Specific citation of codes from the Code of Federal Regulations would be appreciated.

2. How could regulatory compliance be simplified within your industry or sector?

3. Please provide any other specific recommendations, not addressed by the questions above, that you believe would help reduce unnecessary Federal agency regulation of your business.

Dated: March 2, 2017.
Earl Comstock,
Director of Policy and Strategic Planning.

[FR Doc. 2017-04516 Filed 3-3-17; 11:15 am]

BILLING CODE 3510-17-P